FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 003041F.

Name: Accord Shipping Co., Inc.

Address: 320 Pine Ave., Ste. 512, Long Beach, CA 90802.

Date Revoked: November 4, 2009.

Reason: Failed to maintain a valid bond.

License Number: 019059F.

Name: Alliance Logistics, Inc.

Address: 2225 W. Commonwealth Ave., Ste. 306, Alhambra, CA 91803.

Date Revoked: December 6, 2009.

Reason: Falied to maintain a valid bond.

License Number: 019676.

Name: Allright Shipping, Inc.

Address: 1350 Bronx River Ave., Bronx, NY 10472.

Reason: Failed to maintain a valid bond.

License Number: 020056N.

Name: A.M.C. Shipping, LLC.

Address: 79 Edna Ave., Bridgeport, CT 06610.

Date Revoked: November 1, 2009.

Reason: Failed to maintain a valid bond.

License Number: 018820F.

Name: Auto City Center, Inc.

Address: 15846 W. Warren Ave., Detroit, MI 48228.

Date Revoked: November 19, 2009.

Reason: Failed to maintain a valid bond.

License Number: 021406NF.

Name: Civaro North America, Inc. dba Athena Express Line.

Address: 172 E. Manville Street, Unit A. Compton, CA 90220.

Date Revoked: October 31, 2009.

Reason: Surrendered license voluntarily.

License Number: 021561NF.

Name: DT Shipping, Inc.

Address: 11203 S. La Cienega Blvd., Los Angeles, CA 90045.

Date Revoked: November 1, 2009.

Reason: Failed to maintain valid bonds.

License Number: 018808NF.

Name: Eagle Maritime, Inc.

Address: 115 River Road, Ste. 623, Edgewater, NJ 07020.

Date Revoked: November 9, 2009.

Reason: Surrendered license voluntarily.

License Number: 020205F.

Name: Genesis Forwarding Services VA, Inc. dba Genesis Container Lines.

Address: 22650 Executive Dr., Ste. 122, Sterling, VA 20166.

Date Revoked: November 22, 2009.

Reason: Surrendered license voluntarily.

License Number: 017310N.

Name: J.M.C. Transport Corporation.

Address: 5556 Grace Place, Commerce, CA 90022.

Date Revoked: November 30, 2009.

Reason: Failed to maintain a valid bond.

License Number: 019508NF.

Name: LT Freight International, Inc.

Address: 4751 Blanco Dr., San Jose, CA 95129.

Date Revoked: November 6, 2009. (NVOCC) and November 4, 2009 (FF).

Reason: Failed to maintain valid bonds.

License Number: 019125n.

Name: Monumental Shipping & Moving Corp.

Address: 103-10 Astoria Blvd., E. Elmhurst, NY 11369.

Date Revoked: November 12, 2009.

Reason: Failed to maintain a valid bond.

License Number: 019748F.

Name: Newskin Express, Inc.

Address: 400 Crenshaw Blvd., Ste. 109, Torrance, CA 90503.

Date Revoked: November 18, 2009.

Reason: Failed to maintain a valid bond.

License Number: 016593NF.

Name: Paradigm International, Inc. dba Paradigm Global Logistics.

Address: 11200 S. Hindry Ave., 2nd Floor, Los Angeles CA 90045.

Date Revoked: November 13, 2009.

Reason: Failed to maintain valid bonds.

License Number: 021391F.

Name: Phil-Ex Cargo, Inc.

Address: 94-1018 Awalai Street, Waipahu, HI 96797.

Date Revoked: November 2, 2009.

Reason: Surrendered license voluntarily.

License Number: 002476F.

Name: Quick International Service, Inc.

Address: 8348 NW. 30th Terr., Miami, FL 33122.

Date Revoked: November 6, 2009.

Reason: Failed to maintain a valid bond.

License Number: 021475NF.

Name: Real Logistics, Inc.

Address: 10450 NW. 31st Terrace, Doral, FL 33172.

Date Revoked: November 25, 2009.

Reason: Surrendered license voluntarily.

License Number: 019422N.

Name: Royale Gulf Shipping, Ltd.

Address: 110-A Brand Lane, Stafford, TX 77477.

Date Revoked: November 30, 2009.

Reason: Failed to maintain a valid bond.

License Number: 019585N.

Name: RPM Cargo Express, Inc. dba Carib-Link Service.

Address: 7150 NW. 36th Ave., Miami, FL 33147.

Date Revoked: November 6, 2009.

Reason: Failed to maintain a valid bond.

License Number: 018167N.

Name: Rye Express Logistics, LLC.

Address: 2010 NW. 84th Ave., Miami, FL 33122.

Date Revoked: November 25, 2009.

Reason: Surrendered license voluntarily.

License Number: 020994N.

Name: Sapphire Cargo Movers, Inc.

Address: Sapphire Logistics Center, Multinational Access Rd., Multinational Village, Paranaque City, 1700 Philippines.

Date Revoked: November 1, 2009.

Reason: Failed to maintain a valid bond.

Sandra L. Kusumoto,
Director, Bureau of Certification and Licensing.

[FR Doc. E9-29994 Filed 12-16-09; 8:45 am]

BILLING CODE P